DEPARTMENT OF HEALTH AND HUMAN SERVICES

Centers for Disease Control and Prevention

World Trade Center Health Program Scientific/Technical Advisory Committee (WTCHP-STAC); Amended Notice of Solicitation of Nominations

SUMMARY: Notice is hereby given of a change in the solicitation of nominations for appointment to the World Trade Center Health Program Scientific/Technical Advisory Committee (WTCHP-STAC). The solicitation notice is being amended to extend the deadline for submission of nominations from November 14, 2022, in the original Federal Register notice, to December 30, 2022.

DATES: The solicitation of nominations notice was published in the Federal Register on October 13, 2022 (87 FR 62107). Nominations for membership on the WTCHP-STAC must be received no later than December 30, 2022. Packages received after this time will not be considered for the current membership cycle.

ADDRESSES: All nominations should be mailed to NIOSH Docket 229-J, c/o Ms. Mia Wallace, Committee Management Specialist, National Institute for Occupational Safety and Health (NIOSH), CDC, 1600 Clifton Road NE, Mailstop V24-4, Atlanta, Georgia 30329-4027, or emailed (recommended) to nioshdocket@cdc.gov.

FOR FURTHER INFORMATION CONTACT: Tania Carreón-Valencia, Ph.D., MS, Designated Federal Officer, WTCHP-STAC, CDC, 1600 Clifton Road NE, Mailstop R-12, Atlanta, Georgia 30329-4027; Telephone: (513) 841-4515 (this is not a toll-free number); Email: TCarreonValencia@cdc.gov.

SUPPLEMENTARY INFORMATION: The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2022-25848 Filed 11-25-22; 8:45 am]

BILLING CODE 4163-18-P